DEPARTMENT OF JUSTICE

Notice of Lodging of Consent Decree Under the Comprehensive Environmental Responsibility, Compensation, and Liability Act

In accordance with 28 CFR 50.7, notice is hereby given that on October 17, 2002, a proposed consent decree (the “Bruno consent decree” in United States v. Union Pacific Railroad Company and Bruno Cooperative Association, Civil Action No. 8:02-cv-483, was lodged with the United States District Court for the District of Nebraska.

In this action the United States sought injunctive relief and recovery of costs incurred and to be incurred by the United States responding to releases and threatened releases of hazardous substances from the Bruno Agricultural Coop/Associated Properties Site in Bruno, Nebraska. The proposed consent decree memorializes a settlement by which Union Pacific and Bruno Coop (the “Settling Defendants”), both past owners of the Site (the Coop continues to own the Site), will implement and maintain a remedy chosen by the United States Environmental Protection Agency (“EPA”) to address groundwater contamination and restore a municipal drinking water well in Bruno, Nebraska. Settling Defendants also agree to fund one-half of the remedy cost and to reimburse a specified amount of the Site response costs provides that the United States Department of Agriculture (“USDA”), which formerly operated at the Site, also will fund one-half of the remedy cost and reimburse specified costs previously incurred by EPA.

The Department of Justice will receive for a period of thirty (30) days from the date of this publication comments relating to the Bruno consent decree. Comments should be addressed to the Assistant Attorney General, Environment and Natural Resources Division, PO Box 7611, U.S. Department of Justice, Washington, DC 20044-7611, and should refer to United States v. Union Pacific Railroad Company and Bruno Cooperative Association, D.J. Ref. 90-11-3-06101.

The Bruno consent decree may be examined at the Office of the United States Attorney, District of Nebraska, 1620 Dodge Street, Suite 1400, Omaha, NE 68102-1506, and at U.S. EPA Region 7, 901 N. 5th Street, Kansas City, KS 66101. A copy of the Bruno consent decree may also be obtained by mail from the Consent Decree Library, PO Box 7611, U.S. Department of Justice, Washington, DC 20044-7611. In requesting a copy, please enclose a check in the amount of $50.75 (25 cents per page reproduction cost) payable to the U.S. Treasury.

Alternatively, you may request a copy of only the consent decree, without the attached appendices, by enclosing a check in the amount of $13.00 (25 cents per page reproduction cost). Please make checks payable to the Consent Decree Library.

Robert E. Maher, Jr.,
Assistant Chief, Environmental Enforcement Section, Environment and Natural Resources Division.

[FR Doc. 02-27654 Filed 10-30-02; 8:45 am]

BILLING CODE 4410-15-M